DEPARTMENT OF AGRICULTURE

Agricultural Marketing Service

7 CFR Part 1030

[Docket No. AO-361-A39; DA-04-03]

Milk in the Upper Midwest Marketing Area; Delay of Hearing Date

AGENCY: Agricultural Marketing Service, USDA.

ACTION: Proposed rule; notice of hearing delay.

SUMMARY: The Agricultural Marketing Service is delaying the hearing date for the proposed rule that appeared in the Federal Register of June 23, 2004 (69 FR 34963), which gave notice of a public hearing being held to consider proposals that would amend certain provisions of the Upper Midwest milk marketing order. The hearing scheduled to begin July 19, 2004, has been delayed until Monday, August 16, 2004. The hearing must be completed by or adjourned by noon on Friday, August 20, 2004. To expedite the hearing process, the presiding Administrative Law Judge requests that the statements of all witnesses be exchanged with known participants on or before August 13, 2004.

DATES: The hearing will convene at 1 p.m. on Monday, August 16, 2004.

ADDRESSES: The hearing will be held at the Sofitel Minneapolis Hotel (I-494 and Highway 100), 5601 West 78th Street, Bloomington, Minnesota 55439; (952) 835-1900.

FOR FURTHER INFORMATION CONTACT: Gino Tosi, Marketing Specialist, Order Formulation and Enforcement, USDA/AMS/Dairy Programs, Room 2971-Stop 0231, 1400 Independence Avenue, SW., Washington, DC 20250-0231, (202) 690-1366, e-mail address: Gino.Tosi@usda.gov.

SUPPLEMENTARY INFORMATION: In the proposed rule beginning on page 34963 of the Federal Register for Wednesday, June 23, 2004, the hearing date in the first and second column on page 34963 is changed in both the DATES and SUPPLEMENTARY INFORMATION sections to read as follows:

DATES: The hearing will convene at 1 p.m. on Monday, August 16, 2004.

SUPPLEMENTARY INFORMATION:

This administrative action is governed by the provisions of sections 556 and 557 of Title 5 of the United States Code and, therefore, is excluded from the requirements of Executive Order 12866.

Notice is hereby given of a public hearing to be held at the Sofitel Minneapolis Hotel (I-494 and Highway 100), 5601 West 78th Street, Bloomington, Minnesota 55439; (952) 835-1900, beginning at 1 p.m., on Monday, August 16, 2004, with respect to proposed amendments to the tentative marketing agreement and to the order regulating the handling of milk in the Upper Midwest milk marketing area. The hearing is delayed at the request of some of the proponents of the proposed amendments to allow for more time to prepare for the hearing.

Authority: 7 U.S.C. 601-674.

Dated: July 14, 2004.
A.J. Yates,
Administrator, Agricultural Marketing Service.

[FR Doc. 04-16485 Filed 7-20-04; 8:45 am]

BILLING CODE 3410-02-P